DEPARTMENT OF LABOR

Employment and Training Administration

Agency Information Collection Activities: Extension of a Currently Approved Information Collection; Comment Request

ACTION: 60-day notice of information collection under review: Form ETA-9127, Foreign Labor Certification Quarterly Activity Report.

OMB Control No. 1205-0457.

SUMMARY: The Department of Labor, as part of its continuing effort to reduce paperwork and respondent burden conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning Form ETA 9127, Foreign Labor Certification Quarterly Activity Report. A copy of the proposed information collection request (ICR) can be obtained by contacting the office listed below in the addressee section of this notice or at this WEB site: http://www.doleta.gov/OMBCN/OMBControlNumber.cfm.

DATES: Written comments must be submitted to the office listed in the addressee section below on or before March 6, 2009.

ADDRESSES: William L. Carlson, Administrator, Office of Foreign Labor Certification, U.S. Department of Labor, Room C4312, 200 Constitution Ave., NW., Washington, DC 20210; by phone at (202) 693-3010 (this is not a toll-free number); by fax at (202) 693-2768; or by e-mail at ETA.OFLC.Forms@dol.gov subject line: Form 9127.

SUPPLEMENTARY INFORMATION: I. Background: Foreign labor certification programs administered by the Employment and Training Administration (ETA) of the Department of Labor (DOL or Department) require State Workforce Agencies (SWAs) to initially process applications for temporary labor certifications (H-2A and H-2B) filed by U.S. employers on behalf of foreign workers seeking to be employed in the U.S. SWAs are also responsible for issuing prevailing wage determinations, reviewing employer-provided wage surveys or other source data, conducting housing inspections of facilities offered to migrant and seasonal workers, and conducting and monitoring recruitment activities seeking qualified U.S. workers for the temporary jobs employers are attempting to fill with foreign workers. The SWAs perform these functions under a reimbursable grant that is awarded annually. The information pertaining to these functions is proposed to be collected on the Form ETA 9127 and will be used by Departmental staff to manage foreign (alien) labor certification programs in the SWAs. The Department will use the data collected to: (1) Monitor the number of temporary applications that are received, processed, and forwarded to the national processing centers; (2) determine the number of prevailing wage determinations issued to employers under the permanent and temporary labor certification programs, as well as, the H-1B program for nonimmigrant professionals in specialty occupations; and, (3) track the number of agricultural prevailing wage and practice surveys conducted, housing inspections made, and job orders filed. The information on workload will be used for formulating budget estimates for both state and Federal workloads, and for monitoring a State's performance against the grant statement of work and work plan. Without such information, the budget workload figures will be estimates and the allocation of funding to the SWAs will not reflect the true workload in a State.

II. Review Focus: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions:

In order to meet its statutory responsibilities under the INA, the Department needs to extend an existing collection of information to continue to collect data from SWAs.

Type of Review: Extension.

Agency: Employment and Training Administration.

Title: Foreign Labor Certification Quarterly Activity Report.

OMB Number: 1205-0457.

Agency Number(s): Form ETA 9127.

Recordkeeping: Quarterly.

Affected Public: State, Local, or Tribal governments.

Total Respondents: 54 State Workforce Agencies.

Estimated Total Burden Hours: 432.

Total Burden Cost (capital/startup): 0.

Total Burden Cost (operating/maintaining): 0.

Comments submitted in response to this comment request will be summarized and/or included in the request for Office of Management and Budget approval of the information collection request; they will also become a matter of public record.

Dated: December 29, 2008.
William L. Carlson,
Administrator, Office of Foreign Labor Certifications.

[FR Doc. E8-31264 Filed 1-2-09; 8:45 am]

BILLING CODE 4510-FP-P